DEPARTMENT OF HEALTH AND HUMAN SERVICES

Health Resources and Services Administration

Notice of Filing of Annual Report of Federal Advisory Committee

Notice is hereby given that pursuant to section 13 of Public Law 92-463, the fiscal year 2001 annual report for the following Health Resources and Services Administration's Federal advisory committee has been filed with the Library of Congress:

Health Professions and Nurse Education Special Emphasis Panel

Copies are available to the public for inspection at the Library of Congress, Newspaper and Current Periodical Reading Room, James Madison Memorial Building, Room 133, Independence Avenue, SE., between 1st and 2nd Streets, Washington, DC.

Copies may be obtained from: Ms. Theresa Derville, Acting Director, Office of Peer Review, Bureau of Health Professions, Parklawn Building, Room 8C-23, 5600 Fishers Lane, Rockville, Maryland 20857, Telephone 301-443-6339.

Dated: July 2, 2002.
Jane M. Harrison,
Director, Division of Policy Review and Coordination.

[FR Doc. 02-17352 Filed 7-9-02; 8:45 am]

BILLING CODE 4165-15-P